DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Exotic Feline Breeding Compound, Inc., Rosamond, CA, PRT-37998

The applicant requests a permit to export one captive born Amur leopard (Panthers pardus orientalis) to the London Zoo, London England for the purpose of enhancement of the survival of the species through captive propagation.

Applicant: Fossil Rim Wildlife Center, Glen Rose, TX, PRT-038746

The applicant request a permit to import a pair of captive-bred maned wolves (Chrysocyon brachyurus) from the Parque Natural da CBMM, Araxa, Brazil, for the purpose enhance of the survival of the species through captive propagation.

Applicant: John M. Panettiere, Eclectic, AL, PRT-038818

The applicant requests a permit to import the sport-hunted trophy of one male bontebok (Damaliscus pygargus dorcas) culled from a captive herd maintained under the management program of the Republic of South Africa, for the purpose of enhancement of the survival of the species.

Applicant: Kenneth A. Bollinger, Adrian, MI, PRT-038814

The applicant requests a permit to import the sport-hunted trophy of one male bontebok (Damaliscus pygargus dorcas) culled from a captive herd maintained under the management program of the Republic of South Africa, for the purpose of enhancement of the survival of the species.

Applicant: George E. Felbaum, Tipton, MI, PRT-038813

The applicant requests a permit to import the sport-hunted trophy of one male bontebok (Damaliscus pygargus dorcas) culled from a captive herd maintained under the management program of the Republic of South Africa, for the purpose of enhancement of the survival of the species.

Applicant: The Wildlife Conservation Society/Field Veterinary Program, Bronx, NY, PRT-038794

The applicant requests a permit to import samples obtained from Green sea turtle, (Chelonia mydas), Leatherback sea turtle (Dermochelys coriacea), Hawksbill sea turtle, (Eretmochelys imbricata), and Olive Ridley sea turtle, (Lepidochelys olivacea), from world wide sources for enhancement of the species through scientific research. This notification covers activities to be conducted by the applicant for a five year period.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: Robert J. Seidelman, Montgomery, IL, PRT-038861

The applicant requests a permit to import a polar bear (Ursus maritimus) sport hunted from the Northern Beaufort Sea polar bear population in Canada for personal use taken January, 2001.

Applicant: David J. Witmer, Carlisle, PA, PRT-038869

The applicant requests a permit to import a polar bear (Ursus maritimus) sport hunted from the Southern Beaufort Sea polar bear population in Canada for personal use taken January, 2001.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); FAX: (703/358-2281).

Dated: February 12, 2001.
Anna Barry,
Branch of Permits, Division of Management Authority.

[FR Doc. 01-3938 Filed 3-12-01; 8:45 am]

BILLING CODE 4310-55-P